DEPARTMENT OF HOMELAND SECURITY

Federal Emergency Management Agency

44 CFR Part 67

[Docket No. FEMA-B-7715]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Division, Federal Emergency Management Agency, 500 C Street SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This proposed rule is not a significant regulatory action under the criteria of section 3(f) of Executive Order 12866 of September 30, 1993, Regulatory Planning and Review, 58 FR 51735.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | #Depth in feet above ground. *Elevation in feet (NGVD) +Elevation in feet (NAVD): Existing | #Depth in feet above ground. *Elevation in feet (NGVD) +Elevation in feet (NAVD): Modified
City of Lynchburg, Virginia
Virginia | City of Lynchburg | Burton Creek | Confluence with Blackwater Creek | *660 | +660
|  |  | Approximately 1800 feet upstream of Wards Ferry Road | None | +758
|  | Burton Creek Tributary No. 1 | Confluence with Burton Creek | None | +758
|  |  | Approximately 1.0 mile upstream of confluence with Burton Creek | None | +870
|  | Burton Creek Tributary No. 2 | Confluence with Burton Creek Tributary No. 1 | None | +767
|  |  | Approximately 950 feet upstream of Wade Lane | None | +844
|  | Burton Creek Tributary No. 3 | Confluence with Burton Creek | None | +758
|  |  | Approximately 2300 feet upstream of confluence with Burton Creek | None | +841
|  | Burton Creek Tributary No. 4 | Confluence with Burton Creek | None | +755
|  |  | Approximately 0.5 mile upstream of Wards Ferry Road | None | +836
|  | Burton Creek Tributary No. 5 | Confluence with Burton Creek | None | +755
|  |  | Approximately 850 feet upstream of confluence with Burton Creek | None | +768
|  | Burton Creek Tributary No. 6 | Confluence with Burton Creek | None | +720
|  |  | Approximately 1250 feet upstream of confluence with Burton Creek | None | +757
|  | Rock Castle Creek | Confluence with Burton Creek | *722 | +740
|  |  | Just upstream of Wards Ferry Road | *814 | +810
|  | Rock Castle Creek Tributary No. 4 | Confluence with Rock Castle Creek | None | +758
|  |  | Approximately 1500 feet upstream of railroad spur | None | +843
|  | Rock Castle Creek Tributary No. 5 | Confluence with Rock Castle Creek | None | +740
|  |  | Approximately 200 feet upstream of Lynchburg Expressway | None | +783
|  | Rock Castle Creek Tributary No. 6 | Confluence with Rock Castle Creek | None | +740
|  |  | Approximately 800 feet upstream of Edgewood Drive | None | +804
*National Geodetic Vertical Datum.
#Depth in feet above ground.
+North American Vertical Datum.
ADDRESSES
City of Lynchburg
Maps are available for inspection at 900 Church Street, 2nd Floor Planning Division, Lynchburg, VA 24504.
Send comments to The Honorable Joan Foster, Mayor, 900 Church Street, Lynchburg, VA 24504.

Flooding source(s) | Location of referenced elevation | *Elevation in feet (NGVD) +Elevation in feet (NAVD) #Depth in feet above ground: Effective | *Elevation in feet (NGVD) +Elevation in feet (NAVD) #Depth in feet above ground: Modified | Communities affected
Hancock County, Kentucky, and Incorporated Areas
Ohio River | Daviess County Line | None | +392 | City of Hawesville.
| Breckinridge County Line | None | +407 | City of Lewisport, Hancock County (Unincorporated Areas).
* National Geodetic Vertical Datum.
+ North American Vertical Datum.
# Depth in feet above ground.
ADDRESSES
City of Hawesville
Maps are available for inspection at 385 Main Street, Hawesville, KY 42348.
Send comments to The Honorable Charles King, Mayor, City of Hawesville, 395 Main Street, P.O. Box 157, Hawesville, KY 42348.
City of Lewisport
Maps are available for inspection at 590 Old Mill Road, Lewisport, KY 42351.
Send comments to The Honorable Chad Gregory, Mayor, City of Lewisport, 1010 Market Street, Lewisport, KY 42351.
Hancock County (Unincorporated Areas)
Maps are available for inspection at 385 Main Street, Hawesville, KY 42348.
Send comments to The Honorable Jack McCaslin, Hancock County, P.O. Box 580, Hawesville, KY 42348.
Waukesha County, Wisconsin, and Incorporated Areas
Ashippun River | At Pennsylvania Avenue Ashippun Lake At Norwegian Road | None None None | *854 *871 *915 | Waukesha County (Unincorporated Areas).
Bark River | Drumlin Trail At North Road | None None | *848 *973 | Waukesha County (Unincorporated Areas). City of Delafield, Village of Dousman, Village of Hartland, Village of Merton.
Butler Ditch | Hampton Road | *752 | *750 | City of Brookfield.
| Lilly Road | *759 | *757
Deer Creek | Pinehurst Drive Harcove Drive | *838 *871 | *837 *870 | City of New Berlin, City of Brookfield.
Dousman Ditch | Gebhardt Road | *828 | *825 | City of Brookfield.
| Lake Road | *830 | *831
Fox River | River Road Lannon Road | *826 *887 | *827 *886 | Village of Menomonee Falls, City of Brookfield.
Lake Nagawicka | Lake Nagawicka | *891 | *893 | City of Delafield.
Mukwonago River | South Rochester Street Eagle Springs Lake | *784 None | *786 *822 | Waukesha County (Unincorporated Areas), Village of Mukwonago.
Pewaukee Lake | Pewaukee Lake | *855 | *854 | Village of Pewaukee.
Quietwood Creek | Woods Road | None | *781 | City of Muskego.
| Janesville Road | None | *800
Rosenow Creek | Lake Street Brown Street | None None | *861 *873 | Waukesha County (Unincorporated Areas), City of Oconomowoc.
South Branch Sussex Creek | Bugline Trail Mary Hill Road | *938 None | *941 *955 | Waukesha County (Unincorporated Areas).
|  |  |  | Village of Sussex.
South Branch Underwood Creek | At Interstate I-94 | *722 | *723 | City of Brookfield.
Sussex Creek | Duplainville Road | *838 | *835 | Village of Sussex.
| Main Street | *922 | *924 | City of Pewaukee. Waukesha County (Unincorporated Areas).
Sussex Creek Tributary 1 | Weyer Road Lisbon Road | None None | *845 *859 | Waukesha County (Unincorporated Areas).
Underwood Creek | UPS Service Road Pilgrim Road | *725 *821 | *724 *819 | City of Brookfield, Village of Elm Grove.
Upper Namahbin Lake | Upper Namahbin Lake | *872 | *874 | Waukesha County (Unincorporated Areas).
Upper/Lower Phantom Lake | Upper/Lower Phantom Lake | *792 | *794 | Waukesha County (Unincorporated Areas).
* National Geodetic Vertical Datum.
+ North American Vertical Datum.
# Depth in feet above ground.
ADDRESSES
City of Brookfield
Maps are available for inspection at 2000 N. Calhoun Road, Brookfield, WI 53005.
Send comments to Mr. Mike Theis, Community Development Director, 2000 N. Calhoun Road, Brookfield, WI 53005.
City of Delafield
Maps are available for inspection at 500 Genesee Street, Delafield, WI 53018.
Send comments to Mr. Matt Carlson, Administrator, 500 Genesee Street, Delafield, WI 53018.
City of Muskego
Maps are available for inspection at W182 S8200 Racine Avenue, Muskego, WI 53150-0749.
Send comments to Mr. Jeff Muenkel, Planning Director, PO Box 0749, Muskego, WI 53150-0749.
City of New Berlin
Maps are available for inspection at 3805 South Casper Drive, New Berlin, WI 53151.
Send comments to Mr. Greg Kessler, Community Development Director, 3805 South Casper Drive, New Berlin, WI 53151.
City of Oconomowoc
Maps are available for inspection at 174 E. Wisconsin Avenue, Oconomowoc, WI 53066.
Send comments to Mr. Jason Gallo, Planning Director, PO Box 27, Oconomowoc, WI 53066.
City of Pewaukee
Maps are available for inspection at W240N3065 Pewaukee Road, Pewaukee, WI 53072.
Send comments to Mr. Harland Clinkenbeard, Planning Director, W240N3065 Pewaukee Road, Pewaukee, WI 53072.
Waukesha County (Unincorporated Areas)
Maps are available for inspection at 515 W. Moorland Blvd., Waukesha, WI 53188.
Send comments to Mr. Dick Mace, Planning and Zoning Manager, 1320 Pewaukee Road, Waukesha, WI 53188.
Village of Dousman
Maps are available for inspection at 118 S. Main Street, Dousman, WI 53118.
Send comments to Mr. Bruce Kaniewski, Zoning Administrator, 118 S. Main Street, Dousman, WI 53118.
Village of Elm Grove
Maps are available for inspection at 13600 Juneau Blvd., Elm Grove, WI 53122.
Send comments to Mr. Austin Eich, Zoning and Planning Administrator, 13600 Juneau Blvd., Elm Grove, WI 53122.
Village of Hartland
Maps are available for inspection at 210 Cottonwood Avenue, Hartland, WI 53029.
Send comments to Mr. Scott Hussinger, Zoning Administrator, 210 Cottonwood Avenue, Hartland, WI 53029.
Village of Menomonee Falls
Maps are available for inspection at W156 N8480 Pilgrim Road, Menomonee Falls, WI 53051-3140.
Send comments to Mr. William Freislenben, Director of Community Development, W156 N8480 Pilgrim Road, Menomonee Falls, WI 53051-3140.
Village of Merton
Maps are available for inspection at 28343 Sussex Road, Merton, WI 53056.
Send comments to Mr. Thomas Nelson, Administrator, 28343 Sussex Road, PO Box 13, Merton, WI 53056.
Village of Mukwonago
Maps are available for inspection at 440 River Crest Court, Mukwonago, WI 53149.
Send comments to Mr. Joseph J Hankovich, Zoning Administrator, 440 River Crest Court, PO Box 206, Mukwonago, WI 53149.
Village of Pewaukee
Maps are available for inspection at 235 Hickory Street, Pewaukee, WI 53072.
Send comments to Mr. Scott Gosse, Village Administrator, 235 Hickory Street, Pewaukee, WI 53072.
Village of Sussex
Maps are available for inspection at N64 W23760 Main Street, Sussex, WI 53089.
Send comments to Mr. Evan Teich, Administrator, N64 W23760 Main Street, Sussex, WI 53089.

(Catalog of Federal Domestic Assistance No. 83.100, “Flood Insurance.”)
Dated: April 16, 2007.
David I. Maurstad,
Federal Insurance Administrator of the National Flood Insurance Program, Federal Emergency Management Agency, Department of Homeland Security.

[FR Doc. E7-7973 Filed 4-25-07; 8:45 am]

BILLING CODE 9110-12-P